FEDERAL COMMUNICATIONS COMMISSION

47 CFR Parts 80, 87 and 95

[WT Docket No. 99-366; FCC 02-271]

Amendment of of the Commission's Rules To Authorize the Use of 406.025 MHz for Personal Locator Beacons

AGENCY: Federal Communications Commission.

ACTION: Final rule.

SUMMARY: In this document the Federal Communications Commission authorizes the use of 406.0-406.1 MHz for personal locator beacons (PLBs). This was in response to a petition for rulemaking filed by the National Oceanic and Atmospheric Administration of the United States Department of Commerce (NOAA). This will increase the safety of the general public by providing a new means to alert others of an emergency situation and to aid search and rescue personnel locate those in distress.

DATES: Effective July 1, 2003, the incorporation by reference of certain publication listed in the regulations is approved by the Director of the Federal Register as of July 1, 2003.

FOR FURTHER INFORMATION CONTACT: James Shaffer via phone at (202) 418-0680, via e-mail at jshaffer@fcc.gov, via TTY (202) 418-7233, Wireless Telecommunications Bureau, Federal Communications Commission, Washington, DC 20554.

SUPPLEMENTARY INFORMATION: This is a summary of the Commission's Report and Order, FCC 02-271, adopted on September 27, 2002, and released on October 8, 2002. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. In the Report and Order in this proceeding, the Commission established a new subpart K—Personal Locator Beacons (PLB) under part 95 of the Commission's rules, to permit the use of frequency 406.0-406.1 MHz for personal locator beacons. We amended our rules to provide for licensing individual 406 MHz PLBs by rule, require mandatory registration of 406 MHz PLB with the NOAA, and require manufacturers of 406 MHz PLBs to comply with the Radio Technical Commission for Maritime Services (RTCM) Recommended Standards for 406 MHz Satellite PLBs. The 406 MHz PLB is primarily intended to provide a distress and alerting capacity for use by the general public in life threatening situations in a remote environment after all other means of notifying SAR responders (e.g., telephone, radio) have been exhausted. In addition, we dismiss as moot requests by ACR Electronics Inc. (ACR) and McMurdo Limited (McMurdo) for waiver of the Commission's rules to permit the type certification of a new 406 MHz personal emergency position indicating radiobeacon (EPIRB), for the reason that the rule changes we adopt today appear to permit the equipment proposed by ACR and McMurdo.

I. Procedural Matters

A. Alternative Formats

2. Alternative formats (computer diskette, large print, audio cassette and Braille) of this Report and Order are available to persons with disabilities by contacting Brian Millin at (202) 418-0260, TTY (202) 418-2555, or at bmillin@fcc.gov. This Report and Order can also be downloaded at http://www.fcc.gov/dtf/.

II. Final Regulatory Flexibility Analysis (FRFA)

3. As required by the Regulatory Flexibility Act (RFA), an Initial Regulatory Flexibility Analysis (IRFA) was incorporated in the NPRM, 65 FR 4935, February 2, 2000, prepared in this proceeding. The Commission sought written public comment on the proposals in the NPRM, including comments on the IRFA. This present FRFA conforms to the RFA.

A. Need for, and Objectives of, the Report and Order

4. In this proceeding, we amend part 95 of the Commission's rules to authorize the use of the frequency 406 MHz for personal locator beacons (PLBs) to provide individuals in remote areas a means to alert others of an emergency situation and help search and rescue personnel locate those in distress.

B. Summary of Significant Issues Raised by Public Comments in Response to the IRFA

5. No comments were submitted specifically in response to the IRFA.

C. Description and Estimate of the Number of Small Entities to Which the Adopted Rules Will Apply

6. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.” The adopted rules would apply to small businesses that manufacturer, design, import, sell, rent, or use radiobeacon equipment designed for distress alerting and location. PLBs will be used to provide a distress and alerting capacity for use by the general public in a life-threatening condition in a remote environment after all other means of notifying search and rescue responders have been used. These beacons will be manufactured, designed, imported and sold by companies of all sizes operating in the U.S. We concluded that these small businesses are classified in Communications Equipment, N.E.C., (Standard Identification Code 3669) as entities employing less than 750 employees as defined in 13 CFR 121.201. The size data provided by the SBA shows that 469 firms out of 498 firms in the Communications Equipment, NEC classification have less than 750 employees but did not enable us to make a meaningful estimate of the number of potential manufacturers which are small businesses. No comments were received on the number of small businesses which could be impacted by the proposed rule changes.

D. Description of Projected Reporting, Recordkeeping and Other Compliance Requirements

7. This proceeding contains a reporting requirement to require businesses renting and owners of 406 MHz Personal Locator Beacons (PLBs) to register information such as name, address, type of vessel with the National Oceanic and Atmospheric Administration (NOAA). The information would be used by search and rescue personnel to identify the persons in distress and to select the proper rescue units and search methods.

E. Steps Taken to Minimize Significant Economic Impact on Small Entities and Significant Alternatives Considered

8. The Commission in this proceeding has considered comments on making frequency spectrum available to authorize the use of personal locator beacons. It has adopted alternatives which minimize burdens placed on small entities. The adopted rules will have a beneficial economic impact on small business entities that manufacturer, design, import, sell, or use radiobeacon equipment designed for distress alerting and location. This approach promotes technological innovations in radiobeacon equipment. This approach will allow the states to help manage its terrestrial search and rescue resources and assure that these radiobeacons will operate properly thus enhancing protection of life and property.

9. To minimize any negative impact on search and rescue responders receiving distress alerts, we have offered the option of utilizing the existing procedures. These procedures are that with prior coordination and mutual agreement, land-based alerts will be relayed by the United States Air Force Rescue Coordination Center to a point of contact designated by the state. In addition, the Commission declined to require businesses renting PLBs to the public to notify NOAA each time a beacon is rented; instead, such business must register once with NOAA and provide a 24-hour point of contact.

F. Report to Congress

10. The Commission will send a copy of the Report and Order, including this FRFA, in a report to be sent to Congress pursuant to the Small Business Regulatory Enforcement Fairness Act of 1996, see 5 U.S.C. 801(a)(1)(A). In addition, the Commission will send a copy of the Report and Order, including this FRFA to the Chief Counsel for Advocacy of the Small Business Administration. A copy of the Report and Order and FRFA (or summaries thereof) will also be published in the Federal Register. See 5 U.S.C. 604(b).

III. Ordering Clauses

11. Pursuant to the authority of sections 4(i), 303(r), and 332(a)(2) of the Communications Act of 1934, as amended, 47 U.S.C. 154(i), 303(r), 332(a)(2), parts 80, 87 and 95 of the Commission's rules, that 47 CFR parts 80, 87 and 95 are amended as set forth in the attached Rule Changes.

12. The Commission's Reference Information Center, Consumer Information Bureau, shall send a copy of this Report and Order, WT Docket No. 99-366, including the Final Regulatory Flexibility Analysis, to the Chief Counsel for Advocacy of the Small Business Administration.

13. It is further ordered that, pursuant to section 4(i) of the Communications Act of 1934, as amended, 47 U.S.C. 154(i), and § 1.925 of the Commission's rules, ACR's request for waiver of § 80.1061 of the Commission's rules, filed on January 10, 2001, and McMurdo's request for waiver of § 80.1061 of the Commission's rules, filed on August 23, 2002, to permit type certification of ACR's personal EPIRB, FCC Identification Number B66ACR-PLB-100, and McMurdo's personal EPRIB, FCC identification number KLS85860, respectively, are dismissed as moot.

14. It is further ordered, pursuant to section 4(i) of the Communications Act of 1934, as amended, 47 U.S.C. 154(i), that this proceeding is terminated.

List of Subjects in 47 CFR Parts 80, 87 and 95

Communications equipment, Incorporation by reference, Radio, Reporting and recordkeeping requirements.

Federal Communications Commission
Marlene H. Dortch,
Secretary.

Final Rule

For the reasons discussed in the preamble, the Federal Communications Commission amends 47 CFR parts 80, 87 and 95 as follows:

PART 80—STATIONS IN THE MARITIME SERVICES

1. The authority citation for Part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.1061 is amended by revising paragraphs (e) and (f) to read as follows:

§ 80.1061 Special requirements for 406.025 MHz EPIRBs.

* * * * *

(e) An identification code, issued by the National Oceanic and Atmospheric Administration (NOAA), the United States Program Manager for the 406.025 MHz COSPAS/SARSAT satellite system, must be programmed in each EPIRB unit to establish a unique identification for each EPIRB station. With each marketable EPIRB unit, the manufacturer or grantee must include a postage pre-paid registration card printed with the EPIRB identification code addressed to: SARSAT Beacon Registration, NOAA, NESDIS, E/SP3, RM 3320, FB-4, 5200 Auth Road, Suitland, MD 20746-4304. The registration card must request the owner's name, address, telephone number, type of ship, alternate emergency contact and include the following statement: “WARNING—failure to register this EPIRB with NOAA before installation could result in a monetary forfeiture being issued to the owner.”

(f) To enhance protection of life and property, it is mandatory that each 406.025 MHz EPIRB be registered with NOAA before installation and that information be kept up-to-date. Therefore, in addition to the identification plate or label requirements contained in §§ 2.925 and 2.926 of this chapter, each 406.025 MHz EPIRB must be provided on the outside with a clearly discernable permanent plate or label containing the following statement: “The owner of this 406.025 MHz EPIRB must register the NOAA identification code contained on this label with the National Oceanic and Atmospheric Administration (NOAA), whose address is: SARSAT Beacon Registration, NOAA, NESDIS, E/SP3, RM 3320, FB-4, 5200 Auth Road, Suitland, MD 20746-4304.” Vessel owners shall advise NOAA in writing upon change of vessel or EPIRB ownership, transfer of EPIRB to another vessel, or any other change in registration information. NOAA will provide registrants with proof of registration and change of registration postcards.

* * * * *

PART 87—AVIATION SERVICES

3. The authority citation for part 87 continues to read as follows:

Authority: 48 Stat. 1066, 1082, as amended; 47 U.S.C. 154, 303, 307(e) unless otherwise noted. Interpret or apply 48 Stat. 1064-1068, 1081-1105, as amended; 47 U.S.C. 151-156, 301-609.

4. Section 87.199 is amended by revising paragraphs (e) and (f) to read as follows:

§ 87.199 Special requirements for 406.025 MHz ELTs.

* * * * *

(e) An identification code, issued by the National Oceanic and Atmospheric Administration (NOAA), the United States Program Manager for the 406.025 MHz COSPAS/SARSAT satellite system, must be programmed in each ELT unit to establish a unique identification for each ELT station. With each marketable ELT unit the manufacturer or grantee must include a postage pre-paid registration card printed with the ELT identification code addressed to: SARSAT Beacon Registration, NOAA, NESDIS, E/SP3, RM 3320, FB-4, 5200 Auth Road, Suitland, MD 20746-4304. The registration card must request the owner's name, address, telephone number, type of aircraft, alternate emergency contact and include the following statement: “WARNING—failure to register this ELT with NOAA before installation could result in a monetary forfeiture being issued to the owner.”

(f) To enhance protection of life and property, it is mandatory that each 406.025 MHz ELT must be registered with NOAA before installation and that information be kept up-to-date. In addition to the identification plate or label requirements contained in §§ 2.925 and 2.926 of this chapter, each 406.025 MHz ELT must be provided on the outside with a clearly discernable permanent plate or label containing the following statement: “The owner of this 406.025 MHz ELT must register the NOAA identification code contained on this label with the National Oceanic and Atmospheric Administration (NOAA), whose address is: SARSAT Beacon Registration, NOAA, NESDIS, E/SP3, RM 3320, FB-4, 5200 Auth Road, Suitland, MD 20746-4304.” Aircraft owners shall advise NOAA in writing upon change of aircraft or ELT ownership, or any other change in registration information. Fleet operators must notify NOAA upon transfer of ELT to another aircraft outside of the owner's control, or an other change in registration information. NOAA will provide registrants with proof of registration and change of registration postcards.

* * * * *

PART 95—PERSONAL RADIO SERVICES

5. The authority citation for part 95 continues to read as follows:

Authority: Secs. 4, 303, 48 Stat. 1066, 1082, as amended; 47 U.S.C. 154, 303.

6. Add Subpart K to part 95 to read as follows:

Subpart K—Personal Locator Beacons (PLB).

Sec.
95.1400 Basis and purpose.
95.1401 Frequency.
95.1402 Special requirements for 406 MHz PLBs.

§ 95.1400 Basis and purpose.

The rules in this subpart are intended to provide individuals in remote areas a means to alert others of an emergency situation and to aid search and rescue personnel locate those in distress. The effective date for the rules in this subpart will be July 1, 2003.

§ 95.1401 Frequency.

The frequency band 406.0-406.1 MHz is an emergency and distress frequency band available for use by Personal Locator Beacons (PLBs). Personal Locator Beacons that transmit on the frequency band 406.0-406.1 MHz must use G1D emission. Use of these frequencies must be limited to transmission of distress and safety communications.

§ 95.1402 Special requirements for 406 MHz PLBs.

(a) All 406 MHz PLBs must meet all the technical and performance standards contained in the Radio Technical Commission for Maritime (RTCM) Service document “RTCM Recommended Standards for 406 MHz Satellite Personal Locator Beacons (PLBs),” Version 1.1, RTCM Paper 76-2002/SC110-STD, dated June 19, 2002. This RTCM document is incorporated by reference in accordance with 5 U.S.C. 552(a), and 1 CFR part 51. Copies of the document are available and may be obtained from the Radio Technical Commission for Maritime Services, 1800 Diagonal Road, Suite 600, Alexandria, Virginia 22314-2840. The document is available for inspection at Commission headquarters at 445 12th Street SW., Washington, DC 20554. Copies may also be inspected at the Office of the Federal Register, 800 North Capitol Street NW., Suite 700, Washington, DC.

(b) The 406 MHz PLB must contain, as an integral part, a homing beacon operating only on 121.500 MHz and meeting all requirements described in the RTCM Recommended Standards document described in paragraph (a) of this section. The 121.500 MHz homing beacon must have a continuous duty cycle that can be interrupted only during the transmission of the 406 MHz signal. The 406 MHz PLB shall transmit a unique identifier (Morse code “P”) on the 121.500 MHz signals.

(c) Before a 406 MHz PLB certification application is submitted to the Commission, the applicant must have obtained certification from a test facility, recognized by one of the COSPAS/SARSAT Partners that the PLB satisfies the standards contained in the COSPAS/SARSAT document COSPAS/SARSAT 406 MHz Distress Beacon Type Approval Standard (C/S T.007). Additionally, an independent test facility must certify that the PLB complies with the electrical and environmental standards associated with the RTCM Recommended Standards.

(d) The procedures of Notification by the equipment manufacturer and Certification from either the Commission or designated Telecommunications Certification Body are contained in subpart J of part 2 of this chapter.

(e) An identification code, issued by the National Oceanic and Atmospheric Administration (NOAA), the United States Program Manager for the 406 MHz COSPAS/SARSAT satellite system, must be programmed in each PLB unit to establish a unique identification for each PLB station. With each marketable PLB unit, the manufacturer or grantee must include a postage pre-paid registration card printed with the PLB identification code addressed to: SARSAT Beacon Registration, NOAA, NESDIS, E/SP3, Room 3320, FB-4, 5200 Auth Road, Suitland, Maryland 20746-4303. The registration card must request the owner's name, address, telephone number, alternate emergency contact and include the following statement: “WARNING” failure to register this PLB with NOAA could result in a monetary forfeiture order being issued to the owner.”

(f) To enhance protection of life and property, it is mandatory that each 406 MHz PLB be registered with NOAA and that information be kept up-to-date. In addition to the identification plate or label requirements contained in §§ 2.925 and 2.926 of this chapter, each 406 MHz PLB must be provided on the outside with a clearly discernable permanent plate or label containing the following statement: “The owner of this 406 MHz PLB must register the NOAA identification code contained on this label with the National Oceanic and Atmospheric Administration (NOAA) whose address is: SARSAT Beacon Registration, NOAA, NESDIS, E/SP3, Room 3320, FB-4, 5200 Auth Road, Suitland, Maryland 20746-4303.” Owners shall advise NOAA in writing upon change of PLB ownership, or any other change in registration information. NOAA will provide registrants with proof of registration and change of registration postcards.

(g) For 406 MHz PLBs with identification codes that can be changed after manufacture, the identification code shown on the plate or label must be easily replaceable using commonly available tools.

[FR Doc. 03-13468 Filed 5-30-03; 8:45 am]

BILLING CODE 6712-01-P